DEPARTMENT OF JUSTICE

[OMB Number 1105—New]

Agency Information Collection Activities; Proposed eCollection eComments Requested; New

AGENCY: Civil Division, Department of Justice.

ACTION: 60-Day notice.

SUMMARY: The Department of Justice, Civil Division, is submitting the following information collection request to the Office of Management and Budget (OMB) for review and approval in accordance with the Paperwork Reduction Act of 1995.

DATES: The Department of Justice encourages public comment and will accept input until April 24, 2018.

FOR FURTHER INFORMATION CONTACT: If you have additional comments especially on the estimated public burden or associated response time, suggestions, or need a copy of the proposed information collection instrument with instructions or additional information, please contact Talitha Guinn-Shaver, 950 Pennsylvania Ave. NW, Washington, DC 20005, Attn: Civil Communications Office (Attn: Elder Justice Initiative) (Phone: 202-598-0292).

SUPPLEMENTARY INFORMATION: Written comments and suggestions from the public and affected agencies concerning the proposed collection of information are encouraged. Your comments should address one or more of the following four points:

—Evaluate whether the proposed collection of information is necessary for the proper performance of the functions of the Civil Division, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: New.

2. The Title of the Form/Collection: Survey of Elder Justice Needs in Rural America.

3. The agency form number, if any, and the applicable component of the Department sponsoring the collection: Civil Division, United States Department of Justice.

4. Affected public who will be asked or required to respond, as well as a brief abstract:

Primary: States and local units of general government including the 50 state governments, the District of Columbia, Guam, Puerto Rico, the U.S. Virgin Islands, and the more than 3,000 counties and cities with correctional facilities. Other: None.

Abstract: The US Department of Justice, Elder Justice Initiative is conducting a survey of rural needs for the field of elder abuse. These needs will be combined with findings from local listening sessions and will inform the agenda of a national conference on rural elder abuse in the Fall of 2018.

5. An estimate of the total number of respondents and the amount of time estimated for an average respondent to respond: It is estimated that no more than 5,000 respondents will apply. Each application takes approximately less than 30 minutes to complete and is submitted once per year (annually).

6. An estimate of the total public burden (in hours) associated with the collection: The total hour burden to complete the applications is 2,500 hours.

5,000 × 30 minutes = 150,000/60 minutes per hour = 2,500 burden hours.

If additional information is required contact: Melody Braswell, Department Clearance Officer, United States Department of Justice, Justice Management Division, Policy and Planning Staff, Two Constitution Square, 145 N Street NE, 3E.405A, Washington, DC 20530.

Dated: February 20, 2018.
Melody Braswell,
Department Clearance Officer for PRA, U.S. Department of Justice.

[FR Doc. 2018-03720 Filed 2-22-18; 8:45 am]

BILLING CODE 4410-12-P